DEPARTMENT OF DEFENSE

Department of the Army; Corps of Engineers

Inland Waterways Users Board

AGENCY: Department of the Army, U.S. Army Corps of Engineers, DoD.

ACTION: Notice of open meeting.

SUMMARY: In Accordance with 10(a)(2) of the Federal Advisory Committee Act (Pub. L. 92-463), announcement is made of the forthcoming meeting.

Name of Committee: Inland Waterways Users Board (Board).

Date: October 20, 2010.

Location: The Isle Casino Hotel Bettendorf, 1777 Isle Parkway, Bettendorf, Iowa 52722 at 1-800-843-4753 or 1-800-724-5825.

Time: Registration will begin at 8:30 a.m. and the meeting is scheduled to adjourn at approximately 1 p.m.

Agenda: The Board will consider its project investment priorities for the next year, will hear the status of the implementation of the Inland Marine Transportation System (IMTS) Investment Strategy Team recommendations, as well as the status of the funding for inland navigation projects and studies and the status of the Inland Waterways Trust Fund.

FOR FURTHER INFORMATION CONTACT: Mr. Mark R. Pointon, Headquarters, U.S. Army Corps of Engineers, CECW-ID, 441 G Street, NW., Washington, DC 20314-1000; Ph: 202-761-4691.

SUPPLEMENTARY INFORMATION: The meeting is open to the public. Any interested person may attend, appear before, or file statements with the committee at the time and in the manner permitted by the committee.

Brenda S. Bowen,
Army Federal Register Liaison Officer.

[FR Doc. 2010-23210 Filed 9-17-10; 8:45 am]

BILLING CODE 3720-58-P